DEPARTMENT OF LABOR

Employment and Training Administration

[TA-W-71,388]

Lucas-Smith Automotive, Inc.: Potosi, MO; Notice of Negative Determination Regarding Application for Reconsideration

By application dated January 22, 2010, the petitioners requested administrative reconsideration of the Department's negative determination regarding eligibility to apply for Trade Adjustment Assistance (TAA), applicable to workers and former workers of Lucas-Smith Automotive, Inc., Potosi, Missouri (subject firm). The Notice of negative determination was signed on January 8, 2010. The Department's Notice of determination was published in the Federal Register on February 16, 2010 (75 FR 7039). Workers of the subject firm are engaged in employment related to the sales and service of new and used automobiles.

Pursuant to 29 CFR 90.18(c), reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The initial investigation resulted in a denial based on the findings that imports of services like or directly competitive with the services provided by workers of the subject firm did not contribute to worker separations at the subject firm and that no shift in provision of the services to a foreign country occurred during the relevant period.

In the request for reconsideration, the petitioners alleged that the subject firm is either a supplier or downstream producer to a TAA-certified firm and a loss of business with this firm contributed importantly to worker separations at the subject firm.

For the Department to issue a secondary worker certification under Section 222(c) to workers of a downstream producer, the subject firm must perform additional, value-added production processes or services directly for a TAA-certified firm. For the Department to issue a secondary worker certification under Section 222(c) to workers of an upstream supplier, the subject firm must produce and supply directly to a TAA-certified firm component parts for articles, or services, used in the production of articles or in the supply of services, that were the basis for the customers' certification and the certified firm received certification of eligibility for TAA as a primary impacted firm.

The investigation revealed that the workers of the subject firm were engaged in sales and services of new and used automobiles to individual owners at an automotive dealership. The workers of the subject firm did not perform additional, value-added production processes or services directly to any of the certified primary firms during the investigation period. Thus, the subject firm workers are not eligible for TAA as downstream producers under secondary impact. Further, the subject firm is not an upstream supplier because it did not provide services to a TAA-certified firm during the investigation period.

The petitioner also alleged that increased imports of foreign-produced automobiles negatively impacted business of the subject firm and, therefore, workers who perform sales and service of domestic automobiles should be eligible for TAA.

When assessing a worker group's eligibility to apply for TAA, the Department exclusively considers imports of articles like or directly competitive with those manufactured by the subject firm or services like or directly competitive with those supplied by the workers of the subject firm during the relevant period. It was revealed during the initial investigation that the subject firm neither imported services like or directly competitive with the services supplied by worker group nor shifted to or acquired from foreign country services like or directly competitive with the services supplied by worker group.

The petitioners did not supply facts not previously considered and did not provide any documentation indicating that there was either (1) a mistake in the determination of facts previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 16th day of February, 2010.
Del Min Amy Chen,
Certifying Officer, Division of Trade Adjustment Assistance.

[FR Doc. 2010-4246 Filed 3-1-10; 8:45 am]

BILLING CODE 4510-FN-P